DEPARTMENT OF COMMERCE

National Oceanic and Atmospheric Administration

[RTID 0648-XF094]

Takes of Marine Mammals Incidental to Specified Activities; Taking Marine Mammals Incidental to the Office of Naval Research's Arctic Research Activities in the Beaufort and Chukchi Seas (Year 8)

AGENCY: National Marine Fisheries Service (NMFS), National Oceanic and Atmospheric Administration (NOAA), Commerce.

ACTION: Notice; request for comments on proposed renewal incidental harassment authorization.

SUMMARY: NMFS received a request from the Office of Naval Research (ONR) for the renewal of their currently active incidental harassment authorization (IHA) (hereinafter, the “initial IHA”) to take marine mammals incidental to Arctic Research Activities (ARA) in the Beaufort Sea and eastern Chukchi Sea. ONR's activities are nearly identical to those covered in the current authorization. Pursuant to the Marine Mammal Protection Act (MMPA), prior to issuing the currently active IHA, NMFS requested comments on both the proposed IHA and the potential for renewing the initial authorization if certain requirements were satisfied. The renewal requirements have been satisfied, and NMFS is now providing an additional 15-day comment period to allow for any additional comments on the proposed renewal not previously provided during the initial 30-day comment period. The ONR's activities are considered military readiness activities pursuant to the MMPA, as amended by the National Defense Authorization Act for Fiscal Year 2004 (2004 NDAA).

DATES: Comments and information must be received no later than August 27, 2025.

ADDRESSES: Comments should be addressed to the Permits and Conservation Division, Office of Protected Resources, National Marine Fisheries Service, and should be submitted via email to ITP.clevenstine@noaa.gov. Electronic copies of the original application, renewal request, and supporting documents (including NMFS' Federal Register notices of the original proposed and final authorizations, and the previous IHA), as well as a list of the references cited in this document, may be obtained online at: https://www.fisheries.noaa.gov/permit/incidental-take-authorizations-under-marine-mammal-protection-act. In case of problems accessing these documents, please call the contact listed below.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Alyssa Clevenstine, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are proposed or, if the taking is limited to harassment, a notice of a proposed IHA is provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation”); and requirements pertaining to the monitoring and reporting of the takings. The definition of all applicable MMPA statutory used above are included in the relevant sections below and can be found in section 3 of the MMPA (16 U.S.C. 1362) and NMFS' implementing regulations at 50 CFR 216.103.

NMFS' regulations implementing the MMPA at 50 CFR 216.107(e) indicate that IHAs may be renewed for additional periods of time not to exceed 1 year for each reauthorization. In the notice of proposed IHA for the initial IHA, NMFS described the circumstances under which we would consider issuing a renewal for this activity, and requested public comment on a potential renewal under those circumstances. Specifically, on a case-by-case basis, NMFS may issue a one-time, 1-year renewal of an IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take); and

• A preliminary monitoring report showing the results of the required monitoring to date and an explanation showing that the monitoring results do not indicate impacts of a scale or nature not previously analyzed or authorized.

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: https://www.fisheries.noaa.gov/national/marine-mammal-protection/incidental-harassment-authorization-renewals. Any comments received on the potential renewal, along with relevant comments on the initial IHA, have been considered in the development of this proposed IHA renewal, and a summary of agency responses to applicable comments is included in this notice. NMFS will consider any additional public comments prior to making any final decision on the issuance of the requested renewal, and agency responses will be summarized in the final notice of our decision.

The 2004 NDAA (Pub. L. 108-136) removed the “small numbers” and “specified geographical region” limitations indicated above and amended the definition of “harassment” as it applies to a “military readiness activity.” The activity for which incidental take of marine mammals is being requested addressed here qualifies as a military readiness activity.

National Environmental Policy Act

To comply with the National Environmental Policy Act of 1969 (NEPA; 42 U.S.C. 4321 et seq.) and NOAA Administrative Order (NAO) 216-6A, NMFS must review our proposed action (i.e., the issuance of a renewal IHA) with respect to potential impacts on the human environment.

In August 2022, the U.S. Navy prepared an Overseas Environmental Assessment (OEA). Prior to issuing the initial IHA for the project, we reviewed the OEA and the public comments received, determined that a separate NEPA analysis was not necessary, and subsequently adopted the document and issued our own Finding of No Significant Impact in support of the issuance of an IHA (89 FR 77089; September 14, 2024).

We have reviewed ONR's application for a renewal IHA for ongoing ARA from September 2025 to September 2026 and the 2024 IHA monitoring report. Based on that review, we have determined that the proposed action is nearly identical to that considered in the previous IHA, the only change being a reduction in proposed activities. In addition, no significant new circumstances or information relevant to environmental concerns have been identified. Thus, we have preliminarily determined that the preparation of a new or supplemental NEPA document is not necessary.

History of Request

On September 14, 2024, NMFS issued an IHA to ONR to take marine mammals incidental to ARA in the Beaufort and Chukchi Seas (89 FR 77089; September 14, 2024), effective from September 14, 2024, through September 13, 2025. On July 8, 2025, NMFS received an application for the renewal of that initial IHA. As described in the application for the renewal IHA, the activities for which incidental take is requested are nearly identical to those covered in the initial authorization, the only change being a reduction in proposed activities. As required, the applicant also provided a preliminary monitoring report which confirms that the applicant has implemented the required mitigation and monitoring, and which also shows that no impacts of a scale or nature not previously analyzed or authorized have occurred as a result of the activities conducted.

This proposed renewal IHA would cover the eighth year of a larger project for which ONR obtained prior IHAs and renewal IHAs (83 FR 48799, September 27, 2018; 84 FR 50007, September 24, 2019; 85 FR 53333, August 28, 2020; 86 FR 54931, October 5, 2021; 87 FR 57458, September 20, 2022; 88 FR 65657, September 18, 2023; 89 FR 77089; September 14, 2024). ONR has complied with all the requirements (e.g., mitigation, monitoring, and reporting) of the previous IHAs.

Description of the Specified Activities and Anticipated Impacts

The ONR ARA Global Prediction Program supports two major projects: Stratified Ocean Dynamics of the Arctic (SODA) and Arctic Mobile Observing System (AMOS). The SODA and AMOS projects have been previously discussed in association with previously issued IHAs (83 FR 40234, August 14, 2018; 84 FR 37240, July 31, 2019). However, only activities relating to the AMOS project will occur during the period covered by this proposed action.

Project activities involve acoustic testing and a multi-frequency navigation system concept test using left-behind active acoustic sources. More specifically, these experiments involve the deployment of moored, drifting, and ice-tethered active acoustic sources from the Research Vessel (R/V) Sikuliaq. Recovery of equipment may be from R/V Sikuliaq, U.S. Coast Guard Cutter HEALY, or another vessel, and icebreaking may be required. Underwater sound from the active acoustic sources and noise from icebreaking may result in Level B harassment of marine mammals. The activities proposed under the renewal IHA are nearly identical to those in the initial IHA, with the only change being a reduction in the number of research cruises from two to one.

ONR's request is for authorization of take of the Arctic stock of ringed seals (Pusa hispida hispida), and Beaufort Sea and Eastern Chukchi Sea stocks of beluga whales (Delphinapterus leucas) by Level B harassment only. The proposed take numbers are identical to those authorized in the initial IHA, and the anticipated impacts would also be identical to those analyzed in the initial IHA (89 FR 77089, September 14, 2024). Neither ONR nor NMFS expect serious injury or mortality to result from ONR's ARA. Additional information on the proposed activities may be found in the notice of proposed IHA (89 FR 66068, August 14, 2024) for the initial authorization and notice of final IHA (89 FR 77089, September 14, 2024).

Detailed Description of the Activity

A detailed description of the activities for which authorization of take is proposed here may be found in the notices of the proposed and final IHAs for the initial authorization. The location, timing, and nature of the activities, including the types of equipment planned for use, are identical to those described in the previous notices. The proposed renewal IHA would be effective for a period not exceeding 1 year from the date of expiration of the initial IHA.

Description of Marine Mammals

A description of the marine mammals in the area of the activities for which authorization of take is proposed here, including information on abundance, status, distribution, and hearing, may be found in the notice of the proposed IHA for the initial authorization. NMFS has reviewed the preliminary monitoring data from the initial IHA, recent draft Stock Assessment Reports (SARs), information on relevant Unusual Mortality Events (UMEs), and other scientific literature, and determined there is no new information that affects which species or stocks have the potential to be affected or the pertinent information in the Description of the Marine Mammals in the Area of Specified Activities contained in the supporting documents for the initial IHA.

Potential Effects on Marine Mammals and Their Habitat

A description of the potential effects of the specified activity on marine mammals and their habitat for the activities for which an authorization of incidental take is proposed here may be found in the notice of the proposed IHA for the initial authorization. NMFS has reviewed the preliminary monitoring data from the initial IHA, recent draft SARs, information on relevant UMEs, and other scientific literature, and determined that there is no new information that affects our initial analysis of impacts on marine mammals and their habitat.

Estimated Take

A detailed description of the methods and inputs used to estimate take for the specified activity are found in the notices of the proposed and final IHAs for the initial authorization. Specifically, the source levels, days of operation, and marine mammal density and occurrence data applicable to this authorization remain unchanged from the initial IHA. Similarly, the stocks taken, methods of take, and types of take remain unchanged from the previously issued IHA, as do the number of takes, which are indicated below in table 1.

Table 1—Proposed Take by Level B Harassment
Species | Stock | Active acoustics | Icebreaking (behavioral) | Icebreaking (temporary threshold shift (TTS)) | Total proposed take | SAR abundance | Percentage of population
Beluga whale | Beaufort Sea | ᵃ 177 | ᵃ 21 | 0 | 99 | 39,258 | <1
Beluga whale | Chukchi Sea | ᵃ 177 | ᵃ 21 | 0 | 99 | 13,305 | <1
Ringed seal | Arctic | 365 | 538 | 1 | 904 | ᵇ UND (171,418) | <1
ᵃ Acoustic and icebreaking exposures to beluga whales were not modeled at the stock level as the density value is not distinguished by stock in the Arctic for beluga whales (U.S. Department of the Navy, 2014). Estimated take of beluga whales due to active acoustics is 177 and 21 due to icebreaking activities, totaling 198 takes of beluga whales. The total take was evenly distributed among the two stocks.
ᵇ A reliable population estimate for the entire Arctic stock of ringed seals is not available and NMFS SAR lists it as Undetermined (UND). Using a sub-sample of data collected from the U.S. portion of the Bering Sea (Conn et al., 2014), an abundance estimate of 171,418 ringed seals has been calculated but this estimate does not account for availability bias due to seals in the water or in the shore-fast ice zone at the time of the survey. The actual number of ringed seals in the U.S. portion of the Bering Sea is likely much higher. Using the minimum population size (Nmin = 158,507) based upon this negatively biased population estimate, the potential biological removal (PBR) is calculated to be 4,755 seals, although this is also a negatively biased estimate.

Description of Proposed Mitigation, Monitoring and Reporting Measures

The proposed mitigation, monitoring, and reporting measures included as requirements in this authorization are identical to those included in the Federal Register notice announcing the issuance of the initial IHA, and the discussion of the least practicable adverse impact included in that document and the notice of the proposed IHA remains accurate. The following measures are proposed for this renewal:

• All vessels operated by or for the Navy must have personnel assigned to stand watch at all times while underway. Watch personnel must employ visual search techniques using binoculars. While underway and while using active acoustic sources/towed in-water devices, at least one person with access to binoculars is required to be on watch at all times.

• Vessel captains and vessel personnel must remain alert at all times, proceed with extreme caution, and operate at a safe speed so that the vessel can take proper and effective action to avoid any collisions with marine mammals.

• During moored and drifting acoustic source deployment and recovery, ONR must implement a mitigation zone of 55 m around the deployed source. Deployment and recovery must cease if a marine mammal is visually detected within the mitigation zone.

• Vessels must avoid approaching marine mammals head-on and must maneuver to maintain a mitigation zone of 457 m around all observed cetaceans and 183 m around all other observed marine mammals, provided it is safe to do so.

• Activities must cease if a marine mammal species for which take was not authorized, or a species for which authorization was granted but the authorized number of takes has been met, is observed approaching or within the mitigation zone (table 2). Activities must not resume until the animal is confirmed to have left the area.

• Vessel captains must maintain at-sea communication with subsistence hunters to avoid conflict of vessel transit with hunting activity.

• While underway, all vessels must have at least one person trained through the U.S. Navy Marine Species Awareness Training Program on watch during all activities.

• Watch personnel must use standardized data collection forms, whether hard copy or electronic. Watch personnel must distinguish between sightings that occur during transit or during deployment or recovery of acoustic sources. Data must be recorded on all days of activities, even if marine mammals are not sighted.

• During deployment and recovery of acoustic sources or unmanned undersea vehicles, visual observation must begin 30 minutes prior to deployment or recovery and continue through 30 minutes following the source deployment or recovery.

• The ONR must submit its draft report(s) on all monitoring conducted under the IHA within 90 calendar days of the completion of monitoring or 60 calendar days prior to the requested issuance of any subsequent IHA for research activities at the same location, whichever comes first. A final report must be prepared and submitted within 30 calendar days following receipt of any NMFS comments on the draft report. If no comments are received from NMFS within 30 calendar days of receipt of the draft report, the report shall be considered final.

• In the event of a vessel strike of a marine mammal by any vessel involved in the activities covered by the authorization, the ONR shall report the incident to OPR, NMFS and to the Alaska regional stranding coordinator (877-925-7773) as soon as feasible. The report must include time, date, and location of the incident, species identification, vessel speed, vessel course/heading and operations, sound source status, avoidance measures taken, environmental conditions, animal's estimated size, length, and behavior, presence and behavior of other marine mammals in the area, estimated fate of the animal, and photos/video footage of the animal, if available.

Table 2—Mitigation Zones
Activity and/or effort type | Species | Mitigation zone (m)
Acoustic source deployment and recovery, stationary | Beluga whale | 55
Acoustic source deployment and recovery, stationary | Ringed seal | 55
Transit | Beluga whale | 457
Transit | Ringed seal | 183

Comments and Responses

As noted previously, NMFS published a notice of a proposed IHA (89 FR 66068, August 14, 2024) and solicited public comments on both our proposal to issue the initial IHA for ARA and on the potential for a renewal IHA, should certain requirements be met. All public comments were addressed in the notice announcing the issuance of the initial IHA (89 FR 77089, September 20, 2024) and none of the comments specifically pertained to the renewal of the initial IHA.

Preliminary Determinations

NMFS has preliminarily concluded that there is no new information suggesting that our analysis or findings should change from those reached for the initial IHA. Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) ONR's activities will not have an unmitigable adverse impact on taking for subsistence purposes as no relevant subsistence uses of marine mammals are implicated by this action; and (5) appropriate monitoring and reporting requirements are included.

Endangered Species Act

Section 7(a)(2) of the Endangered Species Act of 1973 (ESA; 16 U.S.C. 1531 et seq.) requires that each Federal agency ensure that any action it authorizes, funds, or carries out is not likely to jeopardize the continued existence of any endangered or threatened species or result in the destruction or adverse modification of designated critical habitat. To ensure ESA compliance for the issuance of IHAs, NMFS Office of Protected Resources (OPR) consults internally whenever we propose to authorize take for endangered or threatened species, in this case with the NMFS Alaska Regional Office (AKR).

There is one marine mammal species (Arctic stock of ringed seal) with confirmed occurrence in the study area that is listed as threatened under the ESA. The NMFS AKR issued a Biological Opinion on September 13, 2022, under section 7 of the ESA, on the issuance of an IHA to ONR under section 101(a)(5)(D) of the MMPA by the NMFS OPR. The Biological Opinion concluded that the action is not likely to jeopardize the continued existence of Arctic ringed seals, and is not likely to destroy or adversely modify Arctic ringed seal critical habitat.

Proposed Renewal IHA and Request for Public Comment

As a result of these preliminary determinations, NMFS proposes to issue a renewal IHA to ONR for conducting an eighth year of ARA in the Beaufort and Chukchi Seas from September 2025 to September 2026, provided the previously described mitigation, monitoring, and reporting requirements are incorporated. A draft of the proposed and final initial IHA can be found at https://www.fisheries.noaa.gov/permit/incidental-take-authorizations-under-marine-mammal-protection-act. We request comment on our analyses, the proposed renewal IHA, and any other aspect of this notice. Please include with your comments any supporting data or literature citations to help inform our final decision on the request for this renewal IHA.

Dated: August 6, 2025.
Kimberly Damon-Randall,
Director, Office of Protected Resources, National Marine Fisheries Service.

[FR Doc. 2025-15284 Filed 8-11-25; 8:45 am]

BILLING CODE 3510-22-P